DEPARTMENT OF TRANSPORTATION

Federal Railroad Administration

[Docket No. FRA-2011-0027; Notice No. 3]

Northeast Corridor Safety Committee; Notice of Meeting

AGENCY: Federal Railroad Administration (FRA), Department of Transportation (DOT).

ACTION: Announcement of Northeast Corridor Safety Committee Meeting.

SUMMARY: FRA announced the first meeting of the Northeast Corridor Safety Committee, a Federal Advisory Committee mandated by Section 212 of the Passenger Rail Investment and Improvement Act of 2008 (PRIIA), on June 6, 2011 (See 76 FR 32391). This initial meeting was postponed until further notice (See 76 FR 34139) and is now rescheduled. The Committee is made up of stakeholders operating on the Northeast Corridor, and the purpose of the Committee is to provide annual recommendations to the Secretary of Transportation.

DATES: The meeting of the Northeast Corridor Safety Committee is scheduled to commence at 9 a.m. on Wednesday, February 22, 2012, and will adjourn by 3 p.m.

ADDRESSES: The Northeast Corridor Safety Committee meeting will be held at the National Housing Center, 1201 15th Street NW., Washington, DC 20005. The meeting is open to the public on a first-come, first-served basis, and is accessible to individuals with disabilities. Sign and oral interpretation can be made available if requested 10 calendar days before the meeting.

FOR FURTHER INFORMATION CONTACT: Mr. Larry Woolverton, Northeast Corridor Safety Committee Administrative Officer/Coordinator, FRA, 1200 New Jersey Avenue SE., Mailstop 25, Washington, DC 20590, (202) 493-6212; or Jo Strang, Associate Administrator for Railroad Safety/Chief Safety Officer, FRA, 1200 New Jersey Avenue SE., Mailstop 25, Washington, DC 20590, (202) 493-6300.

SUPPLEMENTARY INFORMATION: The Northeast Corridor Safety Committee is mandated by a statutory provision in Section 212 of the PRIIA (codified at 49 U.S.C. 24905(f)). This Committee is chartered by the Secretary of Transportation and is an official Federal Advisory Committee established in accordance with the provisions of the Federal Advisory Committee Act, as amended, 5 U.S.C. Title 5-Appendix.

Issued in Washington, DC on January 18, 2012.
Robert C. Lauby,
Acting Associate Administrator for Railroad Safety/Chief Safety Officer.

[FR Doc. 2012-1257 Filed 1-20-12; 8:45 am]

BILLING CODE 4910-06-P